ENVIRONMENTAL PROTECTION AGENCY

[FRL-9907-70-OA]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held April 9 and 10, 2014 at National Archives Museum (700 Pennsylvania Avenue NW., Washington, DC 20408). The CHPAC was created to advise the Environmental Protection Agency on science, regulations, and other issues relating to children's environmental health.

DATES: The CHPAC will meet April 9 and 10, 2014.

ADDRESSES: 700 Pennsylvania Avenue NW., Washington, DC 20408

FOR FURTHER INFORMATION CONTACT: Martha Berger, Office of Children's Health Protection, USEPA, MC 1107A, 1200 Pennsylvania Avenue NW., Washington, DC 20460, (202) 564-2191 or berger.martha@epa.gov.

SUPPLEMENTARY INFORMATION: The meetings of the CHPAC are open to the public. The CHPAC will meet on April 9, and April 10 from 9:00 a.m. to 4:00 p.m. each day. The Agenda will be posted at epa.gov/children.

Access and Accommodations: For information on access or services for individuals with disabilities, please contact Martha Berger at 202-564-2191 or berger.martha@epa.gov.

Dated: February 18, 2014.
Martha P. Berger,
Designated Federal Official.

[FR Doc. 2014-05219 Filed 3-10-14; 8:45 am]

BILLING CODE 6560-50-P